DEPARTMENT OF HEALTH AND HUMAN SERVICES

Administration on Aging

[Program Announcement No. AoA-02-05]

Fiscal Year 2002 Program Announcement; Availability of Funds and Notice Regarding Applications

AGENCY: Administration on Aging, HHS.

ACTION: Announcement of availability of funds and request for applications.

SUMMARY: The Administration on Aging announces that under this program announcement for National Legal Assistance and Elder Rights Projects it will hold a competition for grant awards for three (3) to five (5) projects. The federal share of project costs is expected to range from $150,000 to $250,000 per year for a project period of up to three years.

Purpose of grant awards: The purpose of these projects is to enhance the leadership capacity of state and area agencies on aging to support elder rights activities and to improve the quality and accessibility of the legal assistance provided to older persons.

Eligibility for grant awards and other requirements: Under section 420(c) of the Act as amended in 2000, applicants must be national nonprofit organizations experienced in providing support and technical assistance on a nationwide basis to states, area agencies on aging, legal assistance providers, ombudsmen, elder abuse prevention programs, and other organizations interested in the legal rights of older individuals.

Grantees are required to provide a 25% non-federal match.

DATES: The deadline date for the submission of applications is June 28, 2002.

ADDRESSES: Application kits are available by writing to the U.S. Department of Health and Human Services, Administration on Aging, Office for Community-Based Services, 330 Independence Ave., SW., Washington, DC 20201, by calling 202/619-2575, or online at www.aoa.gov/egrants/. Applications must be mailed or hand-delivered to the Office of Grants Management at the same address, or submitted online at www.aoa.gov/egrants/.

Dated: May 8, 2002.
Josefina G. Carbonell,
Assistant Secretary for Aging.

[FR Doc. 02-11937 Filed 5-13-02; 8:45 am]

BILLING CODE 4954-01-P